DEPARTMENT OF JUSTICE

Notice of Lodging of Consent Decree Under the Comprehensive Environmental Response, Compensation and Liability Act

Notice is hereby given that on September 19, 2002, a motion to lodge a proposed consent decree in United States v. General Iron Industries, Inc. et al., Civil Action No. 01 C 4889, was filed with the United States District Court for the Northern District of Illinois.

In this action the United States sought to recover response costs incurred by the United States in connection with the Estech Chemical Company Site in Calument City, Illinois (the “Site”). The compliant alleges that the United States undertook response actions as a result of releases or threatened releases of hazardous substances at the Site, and that General Iron Industries, Inc. (“General Iron”) is jointly and severally liable for the costs of such response actions as a party that arranged for treatment or disposal of hazardous substances at the Site. Under the proposed consent decree General Iron will pay $1.8 million to the Hazardous Substances Superfund as partial reimbursement of response costs that the United States incurred in connection with the Site through March 15, 2002. The proposed consent decree will not resolve potential liability of General Iron with respect to any costs incurred subsequent to march 15, 2002, including costs of any final response action ultimately selected by for the Site by the United States Environmental Protection Agency (“U.S. EPA”).

The Department of Justice will receive for a period of thirty (30) days from the date of this publication comments relating to the proposed consent decree. Comments should be addressed to the Assistant Attorney General, Environment and Natural Resources Division, PO Box 7611, U.S. Department of Justice, Washington, DC 20044-7611, and should refer to United States v. General Iron Industries, Inc., et al., D.J. Ref. 90-11-2-06487/1.

The proposed consent decree may be examined at the Office of the United States Attorney, 219 South Dearborn Street, Chicago, Illinois 60604, and at U.S. EPA Region 5, 77 west Jackson Boulevard, Chicago, Illinois, 60604. A copy of the proposed consent decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $4.50 (25 cents per page reproduction cost) payable to the U.S. Treasury.

William D. Brighton,
Assistant Chief, Environmental Enforcement Section, Environment and Natural Resources Division.

[FR Doc. 02-25100 Filed 10-2-02; 8:45 am]

BILLING CODE 4410-15-M